DEPARTMENT OF COMMERCE

International Trade Administration

Notice of Final Results of Five-Year (“Sunset”) Reviews, Revocation of Antidumping Duty Order on Defrost Timers from Japan (A-588-829), and Termination of Suspended Antidumping Duty Investigations on Color Negative Photo Paper & Chemical Components from Japan (A-588-832), and Color Negative Photo Paper & Chemical Components from the Netherlands (A-421-806)

AGENCY: Import Administration, International Trade Administration, Department of Commerce.

SUMMARY: On December 1, 1999, the Department of Commerce (“the Department”) initiated sunset reviews of the antidumping duty order on defrost timers from Japan, and the suspended antidumping duty investigations on color negative photo paper and chemical components from Japan and the Netherlands. Because no domestic party responded to the sunset review notice of initiation by the applicable deadline, the Department is revoking this order and terminating these suspended investigations.

EFFECTIVE DATE: January 1, 2000.

FOR FURTHER INFORMATION CONTACT: Martha V. Douthit or Melissa G. Skinner, Office of Policy, Import Administration, International Trade Administration, U.S. Department of Commerce, 14th Street and Constitution Avenue, NW., Washington, D.C. 20230; telephone: (202) 482-5050 or (202) 482-1560, respectively.

SUPPLEMENTARY INFORMATION:

Background

On March 2, 1994, the Department issued the antidumping duty order on defrost timers from Japan (59 FR 9957). On August 24, 1994, the Department suspended the antidumping duty investigations on color negative photo paper and chemical components from Japan and from the Netherlands (59 FR 43547, 43539, respectively). Pursuant to section 751(c) of the Tariff Act of 1930, as amended (“the Act”), the Department initiated sunset reviews of this order and these suspended investigations by publishing notice of the initiations in the Federal Register, December 1, 1999 (64 FR 67247). In addition, as a courtesy to interested parties, the Department sent letters, via certified and registered mail, to each party listed on the Department's most current service list for these proceedings to inform them of the automatic initiation of the sunset reviews on this order and these suspended investigations.

No domestic interested parties in the sunset review on this order and these suspended investigations responded to the notice of initiation by the December 16, 1999, deadline (see section 351.218(d)(1)(i) of Procedures for Conducting Five-year (“Sunset”) Reviews of Antidumping and Countervailing Duty Orders, 63 FR 13520 (March 20, 1998) (”Sunset Regulations”)).

Determination To Revoke

Pursuant to section 751(c)(3)(A) of the Act and section 351.218(d)(1)(iii)(B)(3) of the Sunset Regulations, if no domestic interested party responds to the notice of initiation, the Department shall issue a final determination, within 90 days after the initiation of the review, revoking the finding or order or terminating the suspended investigation. Because no domestic interested party responded to the notice of initiation by the applicable deadline, December 16, 1999, we are revoking this antidumping order and terminating these suspended antidumping investigations.

Effective Date of Revocation and Termination

Pursuant to section 751(c)(6)(A)(iv) of the Act, the Department will instruct the United States Customs Service to terminate the suspension of liquidation of the merchandise subject to this order entered, or withdrawn from warehouse, on or after January 1, 2000. Entries of subject merchandise prior to the effective date of revocation will continue to be subject to suspension of liquidation and antidumping duty deposit requirements. The Department will complete any pending administrative reviews of this order and these suspended investigations and will conduct administrative reviews of subject merchandise entered prior to the effective date of revocation in response to appropriately filed request for review.

Dated: February 10, 1999.
Robert S. LaRussa,
Assistant Secretary for Import Administration.

[FR Doc. 00-3692 Filed 2-15-00; 8:45 am]

BILLING CODE 3510-DS-P